DEPARTMENT OF DEFENSE

Department of the Navy

[Docket ID: USN-2025-HQ-0137]

Submission for OMB Review; Comment Request

AGENCY: Department of the Navy, Department of Defense (DoD).

ACTION: 30-Day information collection notice.

SUMMARY: The DoD has submitted to OMB for clearance the following proposal for collection of information under the provisions of the Paperwork Reduction Act.

DATES: Consideration will be given to all comments received by March 4, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: USMC Dependency Statement Child Born Out of Wedlock Under Age 21, NAVMC 1750-13; OMB Control Number 0712-0010.

Type of Request: Extension.

Number of Respondents: 20.

Responses per Respondent: 1.

Annual Responses: 20.

Average Burden per Response: 75 minutes.

Annual Burden Hours: 25.

Needs and Uses: The United States Marine Corps (USMC) must collect information to properly adjudicate Basic Allowance for Housing (BAH) entitlements for cases where a service member claims as a dependent a child born out of wedlock who does not reside in the service member's household. This collection uses NAVMC Form 1750/13, “USMC Dependency Statement Child Born Out of Wedlock Under Age 21,” to provide a standardized method to document financial support and other case facts. To complete the collection, the service member and the child's non-service member guardian complete their respective sections of the form, which the guardian must then have notarized before submission.

The information is used by USMC Installation command representatives and the Marine and Family Programs Division (MFP-1) to make informed and legitimate dependency determinations, which is particularly critical in cases where the claim to BAH is questionable. This collection is mandated by the DoD Financial Management Regulation 7000.14-R, Vol. 7A, Ch. 26 and Marine Corps Order 1751.3. Without this collection, the USMC would lack the necessary documentation to validate dependency claims, potentially leading to incorrect BAH payments and an inability to fulfill its administrative responsibilities under DoD policy.

Affected Public: Individuals or households.

Frequency: On occasion.

Respondent's Obligation: Required to Obtain or Retain Benefits.

DOD Clearance Officer: Mr. Reginald Lucas.

Dated: January 28, 2026.
Stephanie J. Bost,
Alternate OSD Federal Register Liaison Officer, Department of Defense.

[FR Doc. 2026-01959 Filed 1-30-26; 8:45 am]

BILLING CODE 6001-FR-P